DEPARTMENT OF DEFENSE

Department of Navy

Notice of Availability of Government-Owned Inventions; Available for Licensing

AGENCY: Department of the Navy, DoD.

ACTION: Notice.

SUMMARY: The inventions listed below are assigned to the United States (U.S.) Government as represented by the Secretary of the Navy and are available for licensing by the Department of the Navy (DoN).

The following patents are available for licensing: U.S. Patent No. 8,262,938: Active Aluminum Rich Coatings, Navy Case PAX53, Inventors Matzdorf et al, issued September 11, 2012//U.S. Patent No. 8,277,688: Aluminum Alloy Coated Pigments and Corrosion-Resistant Coatings, Navy Case PAX81, Inventors Matzdorf et al, issued October 2, 2012//U.S. Patent Application No. 13/564,341: Oxide Coated Metal Pigments and Film-Forming Compositions, Navy Case PAX115, Inventors Matzdorf et al, filed August 1, 2012, and related Patent Cooperation Treaty (PCT) filing//U.S. Patent Application No. 13/628,232: Coated Aluminum Alloy Pigments and Corrosion-Resistant Coatings, Navy Case PAX121, Inventors Matzdorf et al, filed September 27, 2007, and related PCT filing.

ADDRESSES: Request for data, samples and inventor interviews should be directed to Mr. Dan Swanson, 406-994-7736, dss@montana.edu, TechLink, 2310 University Way, Building 2-2, Bozeman, MT 59715. TechLink is an authorized Department of Defense Partnership Intermediary.

DATES: Request for data, samples and inventor interviews should be made prior to August 1, 2013.

FOR FURTHER INFORMATION CONTACT: Naval Air Warfare Center Aircraft Division, Technology Transfer Office, 22473 Millstone Road, Building 505, Patuxent River, MD 20670, 301-342-1133.

SUPPLEMENTARY INFORMATION: The DoN intends to move expeditiously to license these inventions. Licensing application packages are available from TechLink and all applications and commercialization plans must be returned to TechLink by September 15, 2013. TechLink will turn over all completed applications to the DoN for evaluation by October 1, 2013, with final negotiations and awards occurring during the months of October and November, 2013.

The DoN will consider requests for nonexclusive and partially exclusive licenses in the U.S., and may prefer to grant an exclusive license outside of the U.S. to a company both capable of broad commercialization and the ability to prosecute and maintain national stage filings in most territories outside of the U.S. The DoN intends that licensees interested in a license in territories outside of the U.S. will assume foreign prosecution and pay the cost of such prosecution.

The DoN, in its decisions concerning the granting of licenses, will give special consideration to existing licensee's, small business firms, and consortia involving small business firms. The DoN intends to ensure that its licensed inventions are broadly commercialized throughout the United States.

Authority: 35 U.S.C. 207, 37 CFR Part 404.

Dated: June 18, 2013.
L.R. Almand,
Office of the Judge Advocate General, U.S. Navy, Alternate Federal Register Liaison Officer.

[FR Doc. 2013-15156 Filed 6-24-13; 8:45 am]

BILLING CODE 3810-FF-P